DEPARTMENT OF DEFENSE

Office of the Secretary

[Transmittal No. 18-31]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 18-31 with attached Policy Justification, and State Department Emergency Determination and Justification.

Dated: July 19, 2019.
Aaron T. Siegel,
Alternate OSD Federal Register Liaison Officer, Department of Defense.

BILLING CODE 5001-06-P

BILLING CODE 5001-06-C

Transmittal No. 18-31

Notice of Proposed Issuance of Letter of Offer Pursuant to Section 36(b)(1) of the Arms Export Control Act, as amended

(i) Prospective Purchaser: Saudi Arabia

(ii) Total Estimated Value:

Major Defense Equipment * | $ 0 million
Other | $136 million
TOTAL | $136 million

(iii) Description and Quantity or Quantities of Articles or Services under Consideration for Purchase:

Major Defense Equipment (MDE): None

Non-MDE:

Continued spare and repair parts, U.S. Government and Contractor engineering, technical, and logistics support services, and other related elements of program support for the TASS (Tactical Air Surveillance System) aircraft program. Additionally, the sale will support the rehabilitation of the integrated lab located in the United States used for testing and troubleshooting.

(iv) Military Department: Air Force (SR-D-QDJ)

(v) Prior Related Cases, if any: SR-D-QAS, SR-D-QCH

(vi) Sales Commission, Fee, etc., Paid, Offered, or Agreed to be Paid: None

(vii) Sensitivity of Technology Contained in the Defense Article or Defense Services Proposed to be Sold: None

(viii) Date Report Delivered to Congress: May 24, 2019

* As defined in Section 47(6) of the Arms Export Control Act.

POLICY JUSTIFICATION

Saudi Arabia—Sustainment Support for Tactical Air Surveillance System (TASS)

Saudi Arabia has requested to purchase spare and repair parts, U.S. Government and contractor engineering, technical, and logistics support services, and other related elements of program support for their TASS (Tactical Air Surveillance System) aircraft program. Additionally, the sale will support rehabilitation of the integrated lab located in the United States used for testing and troubleshooting. The total estimated program cost will be $136 million.

The Secretary of State has determined and provided detailed justification that an emergency exists that requires the immediate sale to the Kingdom of Saudi Arabia of the above defense articles (and defense services) in the national security interests of the United States, thereby waiving the Congressional review requirements under Section 36(b) of the Arms Export Control Act, as amended.

This proposed sale will support the foreign policy and national security of the United States by helping to improve the security of a key regional ally which is an important force for political stability and economic progress in the Middle East.

The proposed sale will improve Saudi Arabia's surveillance capability to counter current and future regional threats and strengthen its homeland defense. This is a continuation of a previous sustainment case and Saudi Arabia will have no difficulty absorbing addition support in country.

The proposed sale of this equipment and support will not alter the basic military balance in the region.

The prime contractor will be L3 Technologies, Greenville, Texas. There are no known offsets proposed with this sale.

Implementation of this proposed sale will require the assignment of up to 25 additional L3 contractor representatives to Saudi Arabia.

There will be no adverse impact on U.S. defense readiness as a result of this proposed sale.

BILLING CODE 5001-06-P

[FR Doc. 2019-15752 Filed 7-23-19; 8:45 am]

BILLING CODE 5001-06-P